DEPARTMENT OF TRANSPORTATION

National Highway Traffic Safety Administration

[U.S. DOT Docket Number NHTSA-2004-19685]

Reports, Forms and Recordkeeping Requirements

AGENCY: National Highway Traffic Safety Administration (NHTSA), Department of Transportation.

ACTION: Request for public comment on renewal of existing information collections.

SUMMARY: Before a Federal agency can collect certain information from the public, it must receive approval from the Office of Management and Budget (OMB). Under procedures established by the Paperwork Reduction Act of 1995, before seeking OMB approval, Federal agencies must solicit public comment on proposed collections of information, including extensions and reinstatement of previously approved collections. This document describes a renewal or revision of three existing information collections for which NHTSA intends to seek OMB approval.

DATES: Comments must be received on February 14, 2005.

ADDRESSES: Comments must refer to the docket notice numbers cited at the beginning of this notice and be submitted to Docket Management, Room PL-401, 400 Seventh Street, SW., Washington, DC 20590. Please identify the proposed collection of information for which a comment is provided. It is requested, but not required, that one (1) original plus two (2) copies of the comment be provided. The docket section is open on weekdays from 10 a.m. to 5 p.m.

FOR FURTHER INFORMATION CONTACT: Larry Long, Office of Defects Investigation, NHTSA, 400 Seventh Street, SW., Room 5319, NVS-215, Washington, DC 20590. Telephone: (202) 366-6281.

SUPPLEMENTARY INFORMATION: Under the Paperwork Reduction Act of 1995 (PRA), before an agency submits a proposed collection of information to OMB for approval, it must first publish a document in the Federal Register providing a 60-day comment period and otherwise consult with members of the public and affected agencies concerning the proposed collection of information. OMB has promulgated regulations describing what must be included in such a document. Under OMB's regulation (at 5 CFR 1320.8(d)), an agency must ask for public comment on the following:

(i) Whether the proposed collection of information is necessary for the proper performance of the functions of the agency, including whether the information will have practical utility;

(ii) The accuracy of the agency's estimate of the burden of the proposed collection of information, including the validity of the methodology and assumptions used;

(iii) How to enhance the quality, utility, and clarity of the information to be collected;

(iv) How to minimize the burden of the collection of information on those who are to respond, including the use of appropriate automated, electronic, mechanical, or other technological collection techniques or other forms of information technology, e.g., permitting electronic submission of responses.

In compliance with these requirements, NHTSA asks for public comments on the renewal or revision of the following described collections of information:

(1) Title: Petitions for Hearing on Notification and Remedy of Defects.

Type of Request: Renewal of an information collection.

OMB Control Number: 2127-0039.

Affected Public: Businesses or individuals.

Abstract: NHTSA's statutory authority at 49 U.S.C. 30118(e) and 30120(e) specifies that “on petition of any interested person,” NHTSA may hold a hearing to determine whether a manufacturer of motor vehicles or motor vehicle equipment has met its obligation to notify owners, purchasers, and dealers of vehicles or equipment of a safety-related defect or noncompliance with a Federal motor vehicle safety standard in the manufacturer's products and to remedy the defect or noncompliance.

To implement these statutory provisions, NHTSA has promulgated 49 CFR part 557, Petitions for Hearings on Notification and Remedy of Defects [41 FR 56812, Dec. 30, 1976], which establishes procedures to provide for the submission and disposition of petitions for hearings on the issue of whether the manufacturer has met its obligation to notify owners, purchasers, and dealers of safety-related defects or noncompliances or to remedy the problems by repair, repurchase, or replacement.

Estimated annual burden: In the past, NHTSA estimated that 21 petitions would be submitted annually and that each would require 1 hour to prepare. However, in recent years, a total of 2 petitions have been filed. Our estimate of the time it takes to prepare each petition remains at 1 hour. Accordingly, the burden estimate is revised to be 2 annual hours burden (2 petitions times 1 hour per petition).

Number of respondents: 2.

(2) Title: Record Retention.

Type of Request: Revision of a currently approved information collection.

OMB Control Number: 2127-0042.

Affected Public: Business or other for-profit.

Abstract: Under 49 U.S.C. 30166(e), NHTSA “reasonably may require a manufacturer of a motor vehicle or motor vehicle equipment to keep records, and a manufacturer, distributor, or dealer to make reports, to enable [NHTSA] to decide whether the manufacturer, distributor or dealer has complied or is complying with this chapter or a regulation prescribed or order issued under this chapter.”

To ensure that NHTSA will have access to this type of information, the agency exercised the authority granted in 49 U.S.C. 30166(e) and promulgated 49 CFR Part 576, Record Retention, initially published on August 20, 1974 (39 FR 30045) and most recently amended on July 10, 2002 (67 FR 45873), requiring manufacturers to retain one copy of all records that contain information concerning malfunctions that may be related to motor vehicle safety for a period of five calendar years after the record is generated or acquired by the manufacturer. Manufacturers are also required to retain for five years the underlying records related to early warning reporting (EWR) information submitted under 49 CFR Part 579.

Estimated annual burden: Previously, the burden hours were estimated at 40,000 hours (1000 respondents × 40 hours). The new requirements affect an additional 20 equipment manufacturers annually. While there are approximately 23,600 equipment manufacturers, their reporting requirements under Part 579 are limited to incidents involving deaths. Therefore, based on the number of death reports submitted to date by equipment manufacturers, we estimate that the number of equipment manufacturers required to maintain records underlying their EWR reports is approximately 20. We estimate that it will take one hour to maintain the necessary records. Also, 1,000 manufacturers of vehicles, tires and child restraint systems will be required to maintain records for their EWR reports, however, these are included in the prior approved information collection. Accordingly, the total estimate of the annual burden hours are 40,020 hours (20 respondents times 1 hour, plus 1000 respondents times 40 hours).

Number of respondents: 1,020.

(3) Title: Names and Addresses of First Purchasers Of Motor Vehicles.

Type of Request: Renewal of an information collection.

OMB Control Number: 2127-0044.

Affected Public: Businesses or other for profit.

Abstract: Pursuant to 49 U.S.C. 30117(b), a manufacturer of a motor vehicle or tire (except a retreaded tire) shall maintain a record of the name and address of the first purchasers of each vehicle or tire it produces and, to the extent prescribed by regulation of the Secretary, shall maintain a record of the name and address of the first purchaser of replacement equipment (except a tire) that the manufacturer produces. This agency has no regulation specifying how the information is to be collected or maintained for vehicles, and no requirement pertaining to manufacturers of replacement equipment. Requirements for first purchaser of tires information are contained in 49 CFR 574, Tire Identification and Recordkeeping, and the burden of that information collection is not part of this information collection.

When 49 U.S.C. 30117 was enacted in 1966, it recognized that an efficient recall of defective or noncomplying motor vehicles required that vehicle manufacturers retain an accurate record of vehicle purchasers to notify in the event of a recall. Because manufacturers routinely maintain purchaser information for other business reasons, experience with this statutory requirement has shown that manufacturers have retained this information in a manner sufficient to enable them to expeditiously notify vehicle purchasers in case of a recall. Based on this experience, NHTSA determined that no regulation was needed.

Estimated annual burden: In peak sales years, approximately 17,500,000 new vehicles are sold annually. Vehicle manufacturers maintain a list of first purchasers based on information supplied to them by their dealer network. Each submission, through the use of a computerized verification system, requires the vehicle identification number and the purchaser's name and address. We estimate that it takes the dealer approximately 3 minutes (0.05 hours) to record the purchaser's information in each sales transaction. Therefore, the annual hours of burden to record the first purchaser information based upon recent vehicle sales will be 875,000 hours (0.05 hours x 17,500,000 responses). Further, we estimate that approximately 1,000 vehicle manufacturers must keep records and that each manufacturer requires 200 hours to keep these records for a total of 200,000 annual hours. Accordingly, the total annual reporting and recordkeeping burden for vehicle manufacturers is 1,075,000 hours (875,000 hours + 200,000 hours). The annual burden of first purchaser information for tires has been included in information collection 2127-0050, Tire Identification and Recordkeeping, which is not part of this notice.

Number of respondents: 1000 respondents and 17,500,000 annual responses.

Kathleen C. DeMeter,
Director for Office of Defects Investigation.

[FR Doc. 04-27452 Filed 12-14-04; 8:45 am]

BILLING CODE 4910-59-P